DEPARTMENT OF JUSTICE

Notice of Lodging of Proposed Consent Decree Under the Comprehensive Environmental Response, Compensation and Liability Act

Notice is hereby given that on February 20, 2007, a Consent Decree in United States of America v. FMC Corporation, Civil Action No. 05-5663, was lodged with the United States District Court for the Eastern District of Pennsylvania.

The proposed consent decree with FMC Corporation (“FMC”) resolves the claims of the United States on behalf of EPA against FMC for past response costs under Section 107(a) of the Comprehensive Environmental Response, Compensation, and Liability Act (“CERCLA”), 42 U.S.C. 9607(a), in connection with the East Tenth Street Superfund Site (“Site”) in Marcus Hook, Delaware County, Pennsylvania. Pursuant to the consent decree, FMC will reimburse $600,000 of EPA's past response costs, and will receive a covenant not to sue from EPA for past response costs as set forth in the consent decree.

The consent decree also resolves the potential claims of defendant FMC against the United States for Matters Addressed, which is defined to include past and future response costs of EPA and FMC but not natural resource damages. It resolution of such claims, the United States will pay FMC $283,779 from the judgment fund, on behalf of the Department of Commerce and the General Services Administration (“Settling Federal Agencies”) and any other successors to the War Production Board.

The consent decree also contains mutual covenants among EPA and the Settling Federal Agencies concerning their responsibilities and claims as to each other at the Site.

The Department of Justice will receive for a period of thirty (30) days from the date of this publication comments relating to this proposed Consent Decree. Comments should be addressed to the Assistant Attorney General, Environmental and Natural Resources Division, P.O. Box 7611, U.S. Department of Justice, Washington, DC 20044-7611, Attention; Nancy Flickinger (EES) and Michael Schon (EDS), and should refer to United States of America v. FMC Corporation, Civil Action No. 05-5663, D.J. Ref. 90-11-3-06583/1.

The proposed Consent Decree may be examined at the Office of the United States Attorney for the Eastern District of Pennsylvania, 615 Chesnut Street, and at U.S. EPA Region III's Office, 1650 Arch Street, Philadelphia, PA 19103. During the public comment period, the consent decree may also be examined on the following Department of Justice Web site, http://www.usdoj.gov/enrd/Consent_Decrees.htm. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost for a full copy) payable to the U.S. Treasury.

Robert D. Brook,
Assistant Chief, Environmental Enforcement Section, Environmental and Natural Resources Division.

[FR Doc. 07-907 Filed 2-28-07; 8:45 am]

BILLING CODE 4410-15-M